DEPARTMENT OF EDUCATION

[Docket No.: ED-2023-SCC-0202]

Agency Information Collection Activities; Submission to the Office of Management and Budget for Review and Approval; Comment Request; Study of the Impact of English Learner Reclassification Policies

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before December 16, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Tracy Rimdzius, 202-453-7403.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of the Impact of English Learner Reclassification Policies.

OMB Control Number: 1850-0974.

Type of Review: A revision of a currently approved ICR.

Respondents/Affected Public: State, Local, and Tribal Governments.

Total Estimated Number of Annual Responses: 1,080.

Total Estimated Number of Annual Burden Hours: 1,477.

Abstract: The data collection described in this submission will assist policymakers in understanding the impact of classification and reclassification policies that govern students' English learner (EL) status. Specifically, the study examines (1) whether classification and reclassification was implemented more consistently across districts within states after the start of the Every Student Succeeds Act (ESSA) and (2) whether classification and reclassification at current thresholds helps, harms, or is neutral for ELs' and former ELs' instructional opportunities, experiences, achievement, and attainment. This revision request adds district and school surveys to the approved data collection. The surveys will assess how district-level policies, practices, and procedures influence the impacts of reclassification on ELs as well as provide valuable descriptive information from districts and schools on local implementation of policies and practices that may affect outcomes for ELs. It will complement an existing data collection (#1850-0974) of student information from state longitudinal data systems (SLDSs).

Dated: November 12, 2024.
Juliana Pearson,
PRA Coordinator, Strategic Collections and Clearance, Governance and Strategy Division, Office of Chief Data Officer, Office of Planning, Evaluation and Policy Development.

[FR Doc. 2024-26681 Filed 11-14-24; 8:45 am]

BILLING CODE 4000-01-P